DEPARTMENT OF HOMELAND SECURITY

6 CFR Chapter I

8 CFR Chapter I

19 CFR Chapters I and IV

Ratification of Department Actions

AGENCY: Department of Homeland Security (DHS).

ACTION: Ratification.

SUMMARY: The Department of Homeland Security, through its Acting Secretary, is publishing notification of the ratification of a number of previous actions by the Department. The attached ratification provides the public with certainty, by resolving any potential defect in the validity of those actions.

DATES: The ratification was signed on September 17, 2020, and relates back to the original date of each action that it ratifies.

FOR FURTHER INFORMATION CONTACT: Leo (Chip) Boucher, Assistant General Counsel, Administrative Law, Office of the General Counsel, Department of Homeland Security, Washington, DC 20528, (202) 447-3623.

SUPPLEMENTARY INFORMATION: The Department of Homeland Security, through its Acting Secretary, is ratifying a number of previous actions by the Department. The Department continues to maintain that prior succession orders designating Chad Wolf as Acting Secretary are valid and that Acting Secretary Wolf had the authority to take the actions being ratified in the attached appendix. The Department issued this ratification and is now publishing it in the Federal Register out of an abundance of caution. Neither the ratification nor the publication is a statement that the ratified actions would be invalid absent the ratification.

Ian Brekke, Deputy
General Counsel, U.S. Department of Homeland Security.

Appendix

BILLING CODE 9112-FP-P

[FR Doc. 2020-21055 Filed 9-21-20; 11:15 am]

BILLING CODE 9112-FP-C